DEPARTMENT OF COMMERCE

National Oceanic and Atmospheric Administration

50 CFR Part 622

[Docket No. 040205043-4043-01]

RIN 0648-XZ82

Fisheries of the Caribbean, Gulf of Mexico, and South Atlantic; Snapper-Grouper Fishery of the South Atlantic; Reopening of the 2010-2011 Commercial Sector for Black Sea Bass in the South Atlantic

AGENCY: National Marine Fisheries Service (NMFS), National Oceanic and Atmospheric Administration (NOAA), Commerce.

ACTION: Temporary rule; reopening.

SUMMARY: NMFS reopens the 2010-2011 commercial sector for South Atlantic black sea bass in the exclusive economic zone (EEZ). NMFS previously determined the quota for the commercial sector would be reached by October 7, 2010, and closed the commercial sector for black sea bass in the South Atlantic. The latest estimates for landings indicate the quota was not reached by that date. Consequently, NMFS will reopen the commercial sector for 14 days. The purpose of this action is to allow the commercial sector to maximize harvest benefits and at the same time protect the black sea bass resource.

DATES: The reopening is effective 12:01 a.m., local time, December 1, 2010, until 12:01 a.m., local time, on December 15, 2010. The commercial sector will then be closed until the end of the fishing season, 12:01 a.m., local time, June 1, 2011.

FOR FURTHER INFORMATION CONTACT: Catherine Bruger, telephone 727-824-5305, fax 727-824-5308, e-mail Catherine.Bruger@noaa.gov.

SUPPLEMENTARY INFORMATION: The snapper-grouper fishery of the South Atlantic is managed under the Fishery Management Plan for the Snapper-Grouper Fishery of the South Atlantic Region (FMP). The FMP was prepared by the South Atlantic Fishery Management Council (Council) and is implemented under the authority of the Magnuson-Stevens Fishery Conservation and Management Act (Magnuson-Stevens Act) by regulations at 50 CFR part 622. Those regulations set the commercial quota for black sea bass in the South Atlantic at 309,000 lb (140,160 kg) for the current fishing year, June 1, 2010, though May 31, 2011, as specified in 50 CFR 622.42(e)(5)(iii).

Black sea bass are managed throughout their range. In the South Atlantic EEZ, black sea bass are managed by the Council from 35°15.19′ N. lat., the latitude of Cape Hatteras Light, North Carolina, south. From Cape Hatteras Light, North Carolina, through Maine, black sea bass are managed jointly by the Mid-Atlantic Fishery Management Council and the Atlantic States Marine Fisheries Commission. Therefore, the closure provisions contained in this notice are applicable to those vessels harvesting or possessing black sea bass from Key West, Florida, through Cape Hatteras Light, North Carolina.

Under 50 CFR 622.43(a)(5), NMFS is required to close the commercial sector for a species or species group when the quota for that species or species group is reached, or is projected to be reached, by filing a notification to that effect with the Office of the Federal Register. NMFS projected the commercial sector for black sea bass in the South Atlantic would reach the quota on, or before, October 7, 2010, and closed the fishery on that date (75 FR 60008, September 29, 2010). However, based on current statistics, NMFS has determined that only 82 percent of the available commercial quota was landed by that date. Based on daily landings rates and the pounds remaining on the quota (approximately 56,134 lb (25,462 kg)), NMFS has determined the fishery can reopen for 14 days. Accordingly, NMFS is reopening the commercial sector for black sea bass in the South Atlantic from 12:01 a.m., local time, on December 1, 2010, until 12:01 a.m., local time, on December 15, 2010. The commercial sector will then be closed until 12:01 a.m., local time, June 1, 2011, the end of the current fishing year. December 1, 2010, was chosen as the reopening day for the commercial sector based on feedback from the fishing industry and weather concerns, which indicated that this was the best time to reopen.

The operator of a vessel with a valid commercial vessel permit for South Atlantic snapper-grouper may not fish for or retain black sea bass in the South Atlantic prior to 12:01 a.m., local time, December 1, 2010, and must have landed and bartered, traded, or sold such black sea bass prior to 12:01 a.m., local time, December 15, 2010.

During the closure, the bag limit and possession limits specified in 50 CFR 622.39(d)(1)(vii) and (d)(2), respectively, apply to all harvest or possession of black sea bass in or from the South Atlantic EEZ, and the sale or purchase of black sea bass taken from the EEZ is prohibited. The prohibition on sale or purchase does not apply to sale or purchase of black sea bass that were harvested, landed ashore, and sold prior to 12:01 a.m., local time, October 7, 2010, and were held in cold storage by a dealer or processor. For a person on board a vessel for which a Federal commercial or charter vessel/headboat permit for the South Atlantic snapper-grouper fishery has been issued, the sale and purchase provisions of the commercial closure for black sea bass would apply regardless of whether the fish are harvested in state or Federal waters, as specified in 50 CFR 622.43(a)(5)(ii).

Classification

This action responds to the best available information recently obtained from the fishery. The Assistant Administrator for Fisheries, NOAA, (AA), finds good cause to waive the requirement to provide prior notice and opportunity for public comment pursuant to the authority set forth at 5 U.S.C. 553(b)(B). Allowing prior notice and opportunity for public comment on the reopening is unnecessary because the rule establishing the annual quota has already been subject to notice and comment, and all that remains is to notify the public that additional harvest is available under the established quota and, therefore, the fishery will reopen for a limited time period.

For the aforementioned reasons, the AA also finds good cause to waive the 30-day delay in the effectiveness of this action under 5 U.S.C. 553(d)(3).

This action is taken under 50 CFR 622.43(c) and is exempt from review under Executive Order 12866.

Authority: 16 U.S.C. 1801 et seq.

Dated: November 19, 2010.
Brian W. Parker,
Acting Director, Office of Sustainable Fisheries, National Marine Fisheries Service.

[FR Doc. 2010-29657 Filed 11-19-10; 4:15 pm]

BILLING CODE 3510-22-P